DEPARTMENT OF HEALTH AND HUMAN SERVICES

Centers for Medicare and Medicaid Services

Privacy Act of 1974; Deletion of Systems of Records

AGENCY: Department of Health and Human Services (HHS), Centers for Medicare and Medicaid Services (CMS).

ACTION: Notice to delete 3 systems of records.

SUMMARY: CMS proposes to delete 3 systems of records from its inventory subject to the Privacy Act of 1974 (5 U.S.C. 552a), as amended.

EFFECTIVE DATES: The deletions will be effective on November 3, 2003.

ADDRESSES: The public should address comments to: Director, Division of Privacy Compliance Data Development (DPCDD), CMS, Room N2-04-27, 7500 Security Boulevard, Baltimore, Maryland 21244-1850. Comments received will be available for review at this location, by appointment, during regular business hours, Monday through Friday from 9 a.m.-3 p.m., Eastern Time zone.

SUPPLEMENTARY INFORMATION: Whenever the Centers for Medicare & Medicaid Services (CMS), proposes to modify or delete an SOR, we are required by the Privacy Act to publish a notice in the Federal Register and provide a period of time during which the public may comment. We must also report the proposed action to the Office of Management and Budget (OMB) and Congress.

CMS is deleting from its inventory of Systems of Records the records listed below because they are no longer needed. The projects have ended. Records will be disposed of in accordance with a National Archive and Records Administration (NARA) approved schedule.

Systems To Be Deleted

System No. 09-70-0045, “Evaluation of the Arizona Health Care Cost Containment & LTC Systems Demo (EAHCCC),” HHS/CMS/ORDI;

System No. 09-70-0049, “Evaluation of the HHA Prospective Payment Demo (EHHAPD).”

HHS/CMS/ORDI; System No. 09-70-0063, “Evaluation of the Medicaid Demo for Improving Access to Care for Substance Abusing Pregnant Women,” HHS/CMS/ORDI.

Dated: November 3, 2003.
Thomas A. Scully,
Administrator.

[FR Doc. 03-28719 Filed 11-17-03; 8:45 am]

BILLING CODE 4120-03-P